DEPARTMENT OF AGRICULTURE

Submission for OMB Review; Comment Request

July 23, 2020.

The Department of Agriculture has submitted the following information collection requirement(s) to Office of Management and Budget (OMB) for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 27, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Export Sales of U.S. Agricultural Commodities.

OMB Control Number: 0551-0007.

Summary of Collection: The information collection requirements contained in 7 CFR part 20 are necessary to implement the mandatory export sales reporting requirements of section 602 of the Agricultural Trade Act of 1978, as amended (7 U.S.C. 5712). The export sales reporting system provides commodity market participants with information about commodity export commitments, and is one means by which USDA seeks to insure fairness and soundness in commodity marketing. U.S. exports are required to report to the Foreign Agricultural Service (FAS) information on: (1) The quantity of a reportable commodity to be sold to a foreign buyer; (2) the country of destination; and (3) the marketing year of shipment.

Need and Use of the Information: The collected information is needed because it provides up-to-date market data for making rational export policy decisions to prevent market disruptions. USDA reports the information to the public so that all market participants can be aware of such sales and can evaluate the effects of exports on supply and demand estimates of production, prices, and sales. If the information is not collected, the Department would not be in compliance with the statutes and not fulfilling the objectives of the export sales reporting program.

Description of Respondents: Business or other for-profit.

Number of Respondents: 383.

Frequency of Responses: Reporting: Quarterly; Weekly.

Total Burden Hours: 51,045.

Ruth Brown,
Departmental Information Collection Clearance Officer.

[FR Doc. 2020-16332 Filed 7-27-20; 8:45 am]

BILLING CODE 3410-10-P